FEDERAL MARITIME COMMISSION

[Docket No. 22-07]

Acme Freight Services Corp., Complainant v. Total Terminals International, Respondent; Notice of Filing of Complaint and Assignment

Notice is given that a complaint has been filed with the Federal Maritime Commission (Commission) by ACME Freight Services Corp., hereinafter “Complainant”, against Total Terminals International, “Respondent”. Complainant alleges that Respondent is a Delaware corporation and marine terminal operator (“MTO”).

Complainant alleges that Respondents violated 46 U.S.C. 41102(c) and 46 CFR 545.4 and 545.5 with regard to assessing demurrage charges against containers, including containers that are subject to a governmental hold and therefore unavailable for pickup. The full text of the complaint can be found in the Commission's Electronic Reading Room at https://www2.fmc.gov/readingroom/proceeding/22-07/.

This proceeding has been assigned to Office of Administrative Law Judges. The initial decision of the presiding office in this proceeding shall be issued by March 21, 2023, and the final decision of the Commission shall be issued by October 25, 2023.

Served: March 21, 2022.
William Cody,
Secretary.

[FR Doc. 2022-06245 Filed 3-23-22; 8:45 am]

BILLING CODE 6730-02-P